ENVIRONMENTAL PROTECTION AGENCY

[FRL-12315-01-R1]

Clean Air Act Operating Permit Program; Order on Petition for Objection to State Operating Permit for Turnkey Landfill

AGENCY: Environmental Protection Agency (EPA).

ACTION: Notice of final order on petition.

SUMMARY: The Environmental Protection Agency (EPA) Administrator signed an order dated August 16, 2024 denying a petition dated February 9, 2024 from Darlene Ball, Rep. Tony Caplan, Diana Carpinone, James Contois, Jacquelyn Elliott, John Hurley, Margaret Hurley, Katie Lajoie, Rebecca MacKenzie, Susan Richman, Nelia Sargent, Mary Schissel, Jon Swan, John Tuthill, Cynthia Walter, and Janet Ward. The petition requested that the EPA object to a Clean Air Act (CAA) Title V operating permit issued by the New Hampshire Department of Environmental Services (NH DES) to Turnkey Landfill located in 176 Rochester Neck Road, Rochester, New Hampshire.

FOR FURTHER INFORMATION CONTACT: Andre Turner, EPA Region 1, (617) 918-1216, Turner.Andre@epa.gov. The final order and petition are available electronically at: https://www.epa.gov/title-v-operating-permits/title-v-petition-database.

SUPPLEMENTARY INFORMATION: The EPA received a petition from Darlene Ball, Rep. Tony Caplan, Diana Carpinone, James Contois, Jacquelyn Elliott, John Hurley, Margaret Hurley, Katie Lajoie, Rebecca MacKenzie, Susan Richman, Nelia Sargent, Mary Schissel, Jon Swan, John Tuthill, Cynthia Walter, and Janet Ward dated February 9, 2024, requesting that the EPA object to the issuance of operating permit no. TV-0062, issued by NH DES to Turnkey Landfill located in 176 Rochester Neck Road, Rochester, New Hampshire. On August 16, 2024, the EPA Administrator issued an order denying the petition. The order itself explains the basis for the EPA's decision.

Sections 307(b) and 505(b)(2) of the CAA provide that a petitioner may request judicial review of those portions of an order that deny issues in a petition. Any petition for review shall be filed in the United States Court of Appeals for the appropriate circuit no later than December 6, 2024.

Dated: October 1, 2024.
David Cash,
Regional Administrator, Region 1.

[FR Doc. 2024-23094 Filed 10-4-24; 8:45 am]

BILLING CODE 6560-50-P